DEPARTMENT OF THE TREASURY

Internal Revenue Service

Community Volunteer Income Tax Assistance (VITA) Matching Grant Program Availability of Application Packages

AGENCY: Internal Revenue Service (IRS), Treasury.

ACTION: Notice.

SUMMARY: This document provides notice of the availability of application packages for the 2009 Community Volunteer Income Tax Assistance (VITA) Matching Grant Program.

DATES: Application packages are available from the IRS at this time. The deadline for submitting an application package to the IRS for the 2009 Community Volunteer Income Tax Assistance (VITA) Matching Grant Program is September 2, 2008.

ADDRESSES: Application packages may be requested by contacting: Internal Revenue Service, Grant Program Office, 401 West Peachtree St., NW., Stop 420-D, Atlanta, GA 30308. Applications can also be submitted electronically through Grants.gov.

FOR FURTHER INFORMATION CONTACT: Gloria Dodd, Senior Tax Analyst, Internal Revenue Service, Grant Program Office, 401 West Peachtree St., NW., Stop 420-D, Atlanta, GA 30308. The non-toll free number is (404) 338-7894. The e-mail address is Grant.Program.Office@irs.gov.

SUPPLEMENTARY INFORMATION: Authority for the Community Volunteer Income Tax Assistance (VITA) Matching Grant Program is contained in the 2008 Treasury Appropriations Act enacted on December 26, 2007 (Pub. L. 110-161). Specifically, the appropriations language states: “The program shall provide direct funds to enable VITA programs to extend services to underserved populations and hardest-to-reach areas, both urban and non-urban, as well as to increase the capacity to file returns electronically, heighten quality control, enhance training of volunteers, and significantly improve the accuracy rate of returns prepared by VITA sites.”

Dated: June 2, 2008.
Elizabeth Blair,
Chief, Grant Program Office.

[FR Doc. E8-14231 Filed 6-30-08; 8:45 am]

BILLING CODE 4830-01-P